DEPARTMENT OF HEALTH AND HUMAN SERVICES

Centers for Disease Control and Prevention

Board of Scientific Counselors, Coordinating Center for Infectious Diseases (CCID)

Notice of Cancellation: This notice was published in the Federal Register on April 13, 2009, Volume 74, Number 69, page 16877. The meeting previously scheduled to convene on May 14, 2009 has been cancelled due to the public health emergency.

Contact Person for More Information: Harriette Lynch, Office of the Director, CCID, CDC, Mailstop E-77, 1600 Clifton Road, NE., Atlanta, Georgia 30333, e-mail hlynch@cdc.gov, telephone (404) 498-2726.

The Director, Management Analysis and Services office has been delegated the authority to sign Federal Register notices pertaining to announcements of meetings and other committee management activities, for both the Centers for Disease Control and Prevention and the Agency for Toxic Substances and Disease Registry.

Dated: May 1, 2009.
Andre Tyler,
Acting Director, Management Analysis and Services Office, Centers for Disease Control and Prevention.

[FR Doc. E9-10554 Filed 5-4-09; 11:15 am]

BILLING CODE 4163-18-P